NUCLEAR REGULATORY COMMISSION

[NRC-2021-0195]

Performance Review Boards for Senior Executive Service

AGENCY: Nuclear Regulatory Commission.

ACTION: Appointments.

SUMMARY: The Nuclear Regulatory Commission (NRC) has announced appointments to the NRC Performance Review Board (PRB) responsible for making recommendations on performance appraisal ratings and performance awards for NRC Senior Executives and Senior Level System employees and appointments to the NRC PRB Panel responsible for making recommendations to the appointing and awarding authorities for NRC PRB members.

DATES: November 1, 2021.

ADDRESSES: Please refer to Docket ID NRC-2021-0195 when contacting the NRC about the availability of information regarding this document. You may obtain publicly available information related to this document using any of the following methods:

• Federal Rulemaking Website: Go to https://www.regulations.gov and search for Docket ID NRC-2021-0195. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Mary A. Lamary, Secretary, Executive Resources Board, U.S. Nuclear Regulatory Commission, Washington, DC 20555-0001; telephone: 301-415-3300, email: Mary.Lamary@nrc.gov.

SUPPLEMENTARY INFORMATION: The following individuals appointed as members of the NRC PRB are responsible for making recommendations to the appointing and awarding authorities on performance appraisal ratings and performance awards for Senior Executives and Senior Level System employees:

Daniel H. Dorman, Executive Director for Operations

Marian L. Zobler, General Counsel

Darrell J. Roberts, Deputy Executive Director for Reactor and Preparedness Programs, Office of the Executive Director for Operations

Catherine Haney, Deputy Executive Director for Materials, Waste, Research, State, Tribal, Compliance, Administration, and Human Capital Programs, Office of the Executive Director for Operations

Laura A. Dudes, Regional Administrator, Region-II

Mirela Gavrilas, Director, Office of Nuclear Security and Incident Response

John W. Lubinski, Director, Office of Nuclear Materials and Safety Safeguards

Nader L. Mamish, Director, Office of International Programs

Jennifer M. Golder, Director, Office of Administration

Andrea D. Veil, Director, Office of Nuclear Reactor Regulation

Cherish K. Johnson, Chief Financial Officer

The following individuals will serve as members of the NRC PRB Panel that was established to review appraisals and make recommendations to the appointing and awarding authorities for NRC PRB members:

Brooke P. Clark, Director, Deputy General Counsel for Licensing, Hearings, and Enforcement

Raymond V. Furstenau, Director, Office of Nuclear Regulatory Research

David Lew, Regional Administrator, Region I

All appointments are made pursuant to Section 4314 of Chapter 43 of Title 5 of the United States Code.

Dated: October 27, 2021.
For the Nuclear Regulatory Commission.
Mary A. Lamary,
Secretary, Executive Resources Board.

[FR Doc. 2021-23713 Filed 10-29-21; 8:45 am]

BILLING CODE 7590-01-P